DEPARTMENT OF THE INTERIOR

Bureau of Land Management

[LLNVW0300.L51100000.GN0000.LVEMF1200880 241A; 12-08807; MO# 4500034712; TAS: 14X5017]

Notice of Availability of the Final Environmental Impact Statement for the Hycroft Mine Expansion, Humboldt and Pershing Counties, NV

AGENCY: Bureau of Land Management, Interior.

ACTION: Notice of availability.

SUMMARY: In accordance with the National Environmental Policy Act of 1969, as amended, and the Federal Land Policy and Management Act of 1976, as amended, the Bureau of Land Management (BLM) Winnemucca District, Black Rock Field Office, Winnemucca, Nevada, has prepared a Final Environmental Impact Statement (FEIS) for the Hycroft Mine Expansion and by this notice is announcing its availability.

DATES: The BLM will not issue a final decision on the proposal for a minimum of 30 days of the date that the Environmental Protection Agency publishes their notice in the Federal Register.

ADDRESSES: Copies of the Hycroft Mine Expansion FEIS are available for public inspection at the Bureau of Land Management, Winnemucca District Office, 5100 E. Winnemucca Boulevard, Winnemucca, Nevada. Interested persons may also review the FEIS on the Internet at www.blm.gov/nv/st/en/fo/wfo/blm_information/nepa0.html.

FOR FURTHER INFORMATION CONTACT: For further information contact Kathleen Rehberg, Project Lead, telephone (775) 623-1500; address 5100 E. Winnemucca Boulevard, Winnemucca, Nevada 89445; email wfoweb@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Hycroft Resources Development Inc., (HRDI) proposes to expand mining activities at the existing Hycroft Mine on BLM-managed public land and on private land in Humboldt and Pershing counties, approximately 55 miles west of Winnemucca, Nevada, on the west flank of the Kamma Mountains. HRDI submitted an amended Plan of Operations to the BLM for approval, which proposes to expand the existing project boundary of 8,858 acres an additional 5,895 acres for a total project area of approximately 14,753 acres of public and private land. The Hycroft Mine employs approximately 205 workers. The proposed expansion would increase the mine life by approximately 12 years and increase employment to approximately 537 mine personnel.

The EIS analyzes the potential environmental impacts associated with the proposed expansion of 5,895 acres, which includes 2,172 acres of new surface disturbance. The existing open pit operation and associated disturbance would be increased by 2,057 acres from 1,371 acres of public land to 3,428 acres of public land. Disturbance on private land controlled by HRDI would be increased 115 acres from 1,692 acres to 1,807 acres. The additional acreage in the project boundary would be used for exploration.

The FEIS analyzes two alternatives; the Proposed Action and the No Action Alternative. Three other alternatives were considered then eliminated: Daylight Hours Operation, Modified Exploration Activities, and Different Waste Rock Dump and Heap Leach Pad Configurations. Based on the analysis in the EIS, the BLM has selected a Preferred Alternative. This Preferred Alternative is the alternative that best fulfills the agency's statutory mission and responsibilities, giving consideration to economic, environmental, technical, and other factors. The BLM has determined that the Preferred Alternative is the Proposed Action as outlined in Chapter 2 of the EIS, with the inclusion of the identified recommended mitigation measures to the Proposed Action as specified in Chapter 3 of the EIS.

The proposed project would expand the plan boundary and use of the entire project area for exploration; incorporate five rights-of-way; expand four existing open pits; backfill all or portions of three open pits; build a dispatch center and expand maintenance facilities; expand haul and secondary roads, waste rock facilities, and heap leach facilities; expand existing and construct two ready line and heavy equipment fueling areas; operate a portable crusher with conveyors at the south heap leach facility; construct, operate, and then close the south heap leach facility, Merrill-Crowe process plant, and solution ponds; relocate a segment of the Seven Troughs Road to bypass the south heap leach facility; expand the existing refinery and the Brimstone Merrill-Crowe plant; construct storm water diversions, install culverts, and other storm water controls; close the existing Class III landfill and construct a new Class III landfill; drill one potable water well and one process water well; relocate the existing Brimstone substation, upgrade the existing Crofoot substation, and extend power lines to new process areas; construct growth media stockpiles; and reclaim the project consistent with the proposed reclamation plan.

Under the No-Action Alternative the BLM would not approve the proposed plan of operations and there would be no expansion. HRDI would continue mining activities under previously approved plans of operation.

A Notice of Availability of the Draft EIS for the Proposed Hycroft Mine Expansion was published in the Federal Register on January 27, 2012. Seventy-nine comment letters were received during a 45-day period. The majority of the comments centered on the economic benefits of the project. There were five comment letters that included concerns on impacts to night skies, to public access roads, to water and air, to Native American sites and cultural resources, and on the proximity to the Black Rock Desert-High Rock Canyon-Emigrant Trails National Conservation Area. These comments were considered and addressed in Chapter 8 (Public Involvement) of the Final EIS. No changes to the analysis resulted in response to public comments, only the addition of clarifying text or minor corrections.

Authority: 40 CFR 1506.6, 40 CFR 1506.10.

Gene Seidlitz,
District Manager.

[FR Doc. 2012-16565 Filed 7-5-12; 8:45 am]

BILLING CODE 4310-HC-P